DEPARTMENT OF EDUCATION

National Center for Education Statistics (NCES)

AGENCY: Department of Education.

ACTION: Notice of meeting of the Advisory Council on Education Statistics.

SUMMARY: This notice sets forth the schedule and proposed agenda of a forthcoming meeting of the Advisory Council on Education Statistics (ACES). Notice of this meeting is required under section 10(a)(2) of the Federal Advisory Committee Act. This document is intended to notify the general public of their opportunity to attend.

DATES: October 10-11, 2002.

TIMES: October 10, 2002—Full Council meeting, 9 a.m.-4:30 p.m.; October 11, 2002—Full Council meeting 9 a.m.-12 noon.

LOCATION: Loews L'Enfant Plaza Hotel, 480 L'Enfant Plaza, SW., Washington, DC 20024

FOR FURTHER INFORMATION CONTACT: Laurence T. Ogle, National Center for Education Statistics, 1990 K Street, NW., Room 9115, Washington DC 20006

SUPPLEMENTARY INFORMATION: The Advisory Council on Education Statistics (ACES) is established under section 46(c)(1) of the Education Amendments of 1974, Public Law 93-380. The Council is established to review general policies for the operation of the National Center for Education Statistics (NCES) in the Office of Educational Research and Improvement (OERI) and is responsible for advising on standards to ensure that statistics and analyses disseminated by NCES are of high quality and are not subject to political influence. In addition, ACES is required to advise the Commissioner of NCES and the National Assessment Governing Board on technical and statistical matters related to the National Assessment of Educational Progress (NAEP). This meeting of the Council is open to the public, with the exception of budget discussions. Individuals who will need accommodations for a disability in order to attend the meeting (i.e., interpreting services, assistive listening devices, materials in alternate format) should notify Laurence T. Ogle at (202) 502-7426 by no later than October 3, 2002. We will attempt to meet requests after this date, but cannot guarantee availability of the requested accommodation. The meeting site is accessible to individuals with disabilities.

The proposed agenda includes the following:

• Review of Division activity within NCES

• Legislative and budget updates

• Ethics training

• Statistical adjustments in primary NCES Reports

Records kept of Council proceedings and are available for public inspection. Records are also available for public inspection at the Office of the Acting Executive Director, Laurence T. Ogle, Advisory Council on Education Statistics, National Center for Education Statistics, 1990 K Street NW., Room 9115, Washington, DC 20006.

Grover J. Whitehurst,
Assistant Secretary for Educational Research and Improvement.

[FR Doc. 02-23432 Filed 9-13-02; 8:45 am]

BILLING CODE 4000-01-M